DEPARTMENT OF COMMERCE

Notice of Intent To Conduct Restoration Planning

AGENCY: National Oceanic and Atmospheric Administration (NOAA), Commerce.

SUMMARY: The natural resource trustees (the Trustees) hereby notify the public of their intent to conduct restoration planning activities for injuries to natural resources caused by the Bouchard B-120 Oil Spill that occurred on or about April 27, 2003. On that date, the Bouchard B-120, owned and operated by the Bouchard Transportation Company, grounded on a shoal in Buzzards Bay, which is located off the coasts of Massachusetts and Rhode Island, and released between 22,000 and 98,000 gallons of No. 6 fuel oil into the environment. The Trustees include the: National Oceanic and Atmospheric Administration, U.S. Department of Commerce; U.S. Fish and Wildlife Service, U.S. Department of the Interior; Executive Office of Environmental Affairs, Commonwealth of Massachusetts; State of Rhode Island and Providence Plantations, Department of Environmental Management.

The purpose of restoration planning is to evaluate potential injuries to natural resources and services resulting from the spill and utilize that information to determine the need for, and scale of, restoration actions.

The public is invited to participate in the restoration planning process by reviewing and commenting on documents contained in the Administrative Record, attending public meetings as scheduled, and reviewing and commenting on the Draft and Final Restoration Plans when such documents have been completed.

FOR FURTHER INFORMATION CONTACT: For further information regarding this document, documents contained in the Administrative Record, or the restoration planning process, contact: Frank Csulak, Injury Assessment Coordinator, National Oceanic and Atmospheric Administration, Office of Response and Restoration, HAZMAT Division, 74 Magruder Road Highlands, NJ 07732, 732-872-3005, Frank.Csulak@NOAA.gov.

SUPPLEMENTARY INFORMATION: Oil Spill Incident: On the afternoon of April 27, 2003, the Bouchard B-120, owned and operated by the Bouchard Transportation Company, Inc. (Bouchard), grounded on a shoal soon after entering the western approach to Buzzards Bay from the south. The tugboat Evening Tide was towing the barge that was laden with No. 6 fuel oil from Philadelphia to the Mirant Power Generating Facility in Sandwich, Massachusetts. Bouchard notified the United States Coast Guard (USCG) of a release of oil at approximately 5:30 p.m. and anchored in Buzzards Bay per order of the USCG. That evening, divers discovered a 12 foot by 2 foot hole in the No. 2 starboard holding tank of the barge. After the remaining cargo and oily water was transferred to Bouchard B-10 and both barges proceeded to the Mirant facility.

Between 22,000 and 98,000 gallons of the No. 6 fuel oil cargo was released into Buzzards Bay on April 27, 2003. The actual amount of the release is unknown, but has been estimated by various investigators who have taken into account such factors as the time of impact, water mixing, temperature, wind, current conditions, etc. In the days following the release, the oil was driven ashore by winds and currents. Under the direction of the Unified Command, Bouchard and the response agencies undertook various on-water recovery efforts. Once oil came ashore, the responsible party, response agencies, and others implemented shoreline clean-up activities and emergency restoration efforts. Ultimately, oil impacted approximately 100 miles of shoreline in Massachusetts and Rhode Island to varying degrees. Immediately following the spill, the Massachusetts Division of Marine Fisheries closed approximately 177,000 acres of state shellfish beds and the closures remained in effect for varying amounts of time. Coordinated wildlife collection and reconnaissance efforts, the primary purpose of which was to collect live and dead oiled birds, began on April 30, 2003 and continued daily through May 16, 2003. In the weeks following the spill, a total of 499 birds were collected (all 499 collected birds were not necessarily spill related), including 184 live oiled birds. Of the 184 live oiled birds, 20 were rehabilitated and returned to the wild.

Since the spill, the Trustees have initiated a number of pre-assessment data collection activities and studies. Findings demonstrate or suggest that the spill impacted the following categories of natural resources: (1) Birds and wildlife; (2) recreational use; (3) shorelines; and (4) aquatic resources.

The Trustees (cited above) are designated pursuant to the National Contingency Plan, 40 CFR 300.600 and 300.605.

The Responsible Party (RP) for this incident is Bouchard Transportation Company, Inc. (Bouchard), the owner and operator of the Bouchard B-120 barge. To date, the RP has cooperated with the Trustees in the performance and funding of response, cleanup and pre-assessment data collection activities. The RP has committed to participate in a cooperative natural resource damage assessment.

Administrative Record: The Trustees have established an Administrative Record (AR) in compliance with 15 CFR 990.45. The AR will include documents relied upon by the Trustees during the assessment and restoration planning activities for this incident. To date, the AR contains:

(1) A copy of this notice;

(2) A letter from the Trustees to Bouchard inviting the company to participate in a cooperative natural resource damage assessment;

(3) A letter from Bouchard to the Trustees accepting the invitation to participate in a cooperative natural resource damage assessment; and

(4) The “Pre-Assessment Screen Data Report: Bouchard Barge No.120 Oil Spill in Buzzards Bay, Massachusetts, dated June 2005”.

The AR is on file at the NOAA Damage Assessment Center in Silver Spring, MD and may be viewed electronically by accessing the following Web site address: http://www.darrp.noaa.gov/northeast/buzzard/index.html.

Additionally, duplicate copies will be maintained for public review at the following locations:

Jonathan Bourne Library, 19 Sandwich Road, Bourne, MA 02532, for assistance please contact Diane Ranney, Assistant Library Director at 508-759-0644; and New Bedford Public Library, 613 Pleasant Street, New Bedford, MA 2740-6203, for assistance please contact Teresa Coish, Library Director at 508-991-6279.

Trustees' Determination of Jurisdiction

Following notice of the spill, the Trustees initiated pre-assessment data collection activities, as described in the “Pre-Assessment Screen Data Report: Bouchard Barge No. 120 Oil Spill in Buzzards Bay, Massachusetts, dated June 2005”. The following determinations were made as required by 15 CFR 990.41:

(1) The spill of between 22,000 and 98,000 gallons of No. 6 fuel oil from the Bouchard B-120 into Buzzards Bay that occurred on April 27, 2003 was an incident as defined at 15 CFR 990.30.

(2) The incident was not permitted under Federal, state, or local law; it did not occur from a public vessel; and it did not occur from an offshore facility subject to the Trans-Alaska Pipeline Authority Act, 43 U.S.C. 1651, et seq.

(3) The Trustees have reviewed information gathered during the response and pre-assessment phases of this incident and determined that natural resources under the trusteeship of NOAA, DOI, MA EOEA and RIDEM have been injured as a result of the incident. The discharged oil contained components that are toxic at certain exposure levels to aquatic organisms, birds, wildlife, and vegetation. In addition, the physical characteristics of the oil adversely impacted certain natural resources. The Trustees observed birds, shoreline and aquatic organisms that were exposed to oil from the discharge. Significant portions of shellfish beds in the Commonwealth of Massachusetts were closed immediately following the spill and remained closed for varying amounts of time. Some shoreline recreational areas in Massachusetts and Rhode Island were also closed to public access following the spill. Additional recreational resources were degraded and/or displaced following the incident.

Based upon the above findings, the Trustees have determined that they have jurisdiction to pursue restoration planning activities pursuant to the Oil Pollution Act of 1990, 33 U.S.C. 2702 and 2706(b)-(c).

Trustees' Determination to Conduct Restoration Activities: For the reasons discussed below, the Trustees have made the determination required by 15 CFR 990.42(a) and are proceeding with restoration planning to develop restoration alternatives that will restore, replace, rehabilitate, or acquire the equivalent of, the natural resources and/or natural resource services lost as a result of this incident.

(1) Injuries have resulted from the incident. The Trustees base this determination upon data collected and analyzed pursuant to 15 CFR 990.43 demonstrating that injuries are likely to have resulted from the incident, and include but are not limited to, the following natural resource categories: Birds and Wildlife; Shoreline; Recreational Use; and, Aquatic.

(2) Response actions have not adequately addressed the injuries resulting from the incident. Although response actions and innovative emergency restoration actions were initiated promptly, the nature of the discharge, weather and tide conditions, and the sensitivity of the environment precluded the prevention of injuries to some natural resources. It is anticipated that injured natural resources will eventually return to baseline levels, but there is a potential for significant interim losses to have occurred and to continue to occur, until return to baseline is achieved.

(3) Feasible primary and compensatory restoration alternatives exist to address injuries from this incident. Components of the restoration plan may include, but are not limited to, projects involving land acquisition, shoreline stabilization, wetland/marsh enhancement, predator control activities, protection or enhancement of bird nesting areas, and recreational area enhancements.

Public Involvement: Pursuant to 15 CFR 990.44, the Trustees will seek public involvement in restoration planning by establishing public review and comment opportunities.

Dated: July 21, 2006.
Ken Barton,
Acting Director, Office of Response and Restoration, National Ocean Service, National Oceanic and Atmospheric Administration.

[FR Doc. E6-12117 Filed 7-27-06; 8:45 am]

BILLING CODE 3510-JE-P